DEPARTMENT OF THE INTERIOR

Bureau of Land Management

[MT-072-1220-HB]

Final Supplementary Rules for Fee Collection Sites Within the Area Managed by the Butte Field Office; MT

AGENCY: Bureau of Land Management, Interior.

ACTION: Notice.

SUMMARY: The Bureau of Land Management (BLM) Butte Field Office is implementing these supplementary rules in order to regulate fee collection at sites administered under the Land and Water Conservation Fund (43 U.S.C. 4601). The supplementary rules are necessary to help ensure that the public makes proper payment for recreational use of public lands facilities.

DATES: The final rules are effectively immediately.

ADDRESSES: Field Manager, Bureau of Land Management, Butte Field Office, 106 North Parkmont, Butte, Montana 59701. You may also contact the BLM by Internet e-mail at the following address: MT_Butte_FO@blm.gov.

FOR FURTHER INFORMATION CONTACT: Brad Rixford, Outdoor Recreation Planner, 106 N. Parkmont, Butte, Montana 59701, 406-533-7600.

SUPPLEMENTARY INFORMATION:

I. Public Comment Procedures

No comments were received.

II. Procedural Matters

Executive Order 12866, Regulatory Planning and Review

These supplementary rules are not a significant regulatory action and are not subject to review by Office of Management and Budget under Executive Order 12866. These supplementary rules will not have an effect of $100 million or more on the economy. They are not intended to affect commercial activity, but contain rules of conduct for public use of certain recreational areas. They will not adversely affect, in a material way, the economy, productivity, competition, jobs, the environment, public health or safety, or State, local, or tribal governments or communities. These proposed supplementary rules will not create a serious inconsistency or otherwise interfere with an action taken or planned by another agency. The supplementary rules do not alter the budgetary effects of entitlements, grants, user fees, or loan programs or the right or obligations of their recipients; nor do they raise novel legal or policy issues.

National Environmental Policy Act

The BLM has prepared an environmental assessment (EA) or management agreement and has found that the proposed supplementary rules would not constitute a major Federal action significantly affecting the quality of the human environment under section 102(2)(C) of the Environmental Protection Act of 1969 (NEPA), 42 U.S.C. 4332(2)(C). The supplementary rules merely contain rules to require payment of camping fees and display of tickets for use of certain recreational lands in Montana. These rules are designed to ensure proper payment for use of public land facilities. A detailed statement under NEPA is not required. BLM has placed the EA and the Finding of No Significant Impact (FONSI) on file in the BLM Administrative Record at the address specified in the ADDRESSES section.

Regulatory Flexibility Act

Congress enacted the Regulatory Flexibility Act (RFA) of 1980, as amended, 5 U.S.C. 601-612, to ensure that government regulations do not unnecessarily or disproportionately burden small entities. The RFA requires a regulatory flexibility analysis if a rule would have a significant economic impact, either detrimental or beneficial, on a substantial number of small entities. The supplementary rules do not pertain specifically to commercial or governmental entities of any size, but to public recreational use of specific public lands. Therefore, BLM has determined under the RFA that these proposed supplementary rules would not have a significant economic impact on a substantial number of small entities.

Small Business Regulatory Enforcement Fairness Act (SBREFA)

These supplementary rules do not constitute a “major rule” as defined at 5 U.S.C. 804(2). Again, the supplementary rules merely contain rules for fee payment for recreational use of certain public lands. The supplementary rules have no effect on business-commercial or industrial-use of the public lands.

Unfunded Mandates Reform Act

These supplementary rules do not impose an unfunded mandate on State, local or tribal governments or the private sector of more than $100 million per year; nor do these proposed supplementary rules have a significant or unique effect on State, local, or tribal governments or the private sector. The supplementary rules do not require anything of State, local, or tribal governments. Therefore, BLM is not required to prepare a statement containing the information required by the Unfunded Mandates Reform Act (2 U.S.C. 1531 et seq.)

Executive Order 12630, Governmental Actions and Interference With Constitutionally Protected Property Rights (Takings)

The supplementary rules do not represent a government action capable of interfering with constitutionally protected property rights. The supplementary rules do not address property rights in any form, and do not cause the impairment of anybody's property rights. Therefore, the Department of the Interior has determined that the supplementary rules would not cause a taking of private property or require further discussion of takings implications under this Executive Order.

Executive Order 13132, Federalism

The supplementary rules will not have a substantial direct effect on the states, on the relationship between the national government and the states, or on the distribution of power and responsibilities among the various levels of government. The supplementary rules affect land in only one state, Montana, and do not address jurisdictional issues involving the state government. Therefore, in accordance with Executive Order 13132, BLM has determined that these proposed supplementary rules do not have sufficient Federalism implications to warrant preparation of a Federalism Assessment.

Executive Order 12988, Civil Justice Reform

Under Executive Order 12988, the Office of the Solicitor has determined that these proposed supplementary rules would not unduly burden the judicial system and that they meet the requirements of sections 3(a) and 3(b)(2) of the Order.

Paperwork Reduction Act

These supplementary rules do not contain information collection requirements that the Office of Management and Budget must approve under the Paperwork Reduction Act, 44 U.S.C. 3501 et seq.

Supplementary Rules for Fee Collection at Land and Water Conservation

Fund Sites

Under 43 CFR 8365 and 16 U.S.C. 4601-6a(e), the Bureau of Land Management will enforce the following rules on public land at Holter Lake, Holter Dam, Log Gulch, Departure Point, Devil's Elbow, Clark's Bay and Divide Recreation Sites. You must follow these rules:

Sec. 1. Fee Requirements

a. You must pay the posted day use or camping fee.

b. You must display your fee payment receipt at your campsite or on your vehicle.

Sec. 2. Penalties

On public lands, under section 303(a) of the Federal Land Policy and Management Act of 1976 (43 U.S.C. 1733(a)), 43 CFR 8365.1-6 and U.S.C. 4601-6a(e) any person who violates any of these supplementary rules within the boundaries established in the rules may be tried before a United States Magistrate and fined no more than $100. Such violations may also be subject to the enhanced fines provided for by 18 U.S.C. 3571.

Martin C. Ott,
State Director.

[FR Doc. 04-20756 Filed 9-14-04; 8:45 am]

BILLING CODE 4310-$$-P